DEPARTMENT OF ENERGY

Federal Energy Regulatory Commission

Combined Notice of Filings #1

Take notice that the Commission received the following exempt wholesale generator filings:

Docket Numbers: EG12-7-000.

Applicants: Manzana Wind LLC.

Description: Self-Certification of Exempt Wholesale Generator Status of Manzana Wind LLC.

Filed Date: 10/31/2011.

Accession Number: 20111031-5277.

Comment Date: 5 p.m. Eastern Time on Monday, November 21, 2011.

Docket Numbers: EG12-8-000.

Applicants: NaturEner Rim Rock Wind Energy, LLC.

Description: Notice of Self-Certification of Exempt Wholesale Generator Status of NaturEner Rim Rock Wind Energy, LLC.

Filed Date: 10/31/2011.

Accession Number: 20111031-5358.

Comment Date: 5 p.m. Eastern Time on Monday, November 21, 2011.

Take notice that the Commission received the following electric rate filings:

Docket Numbers: ER10-2906-004; ER10-2908-004; ER10-2911-004; ER10-2909-004; ER10-2910-004; ER10-2900-004; ER10-2899-004; ER10-2898-004; ER11-4393-001.

Applicants: Utility Contract Funding II, LLC, Power Contract Financing II, L.L.C., South Eastern Electric Development Corp., South Eastern Generating Corp., Morgan Stanley Capital Group Inc., MS Solar Solutions Corp., Power Contract Financing II, Inc., Naniwa Energy LLC,TAQA Gen X LLC.

Description: MS Utilities Notice of Change in Status under ER10-2906, et al.

Filed Date: 10/31/2011.

Accession Number: 20111031-5229.

Comment Date: 5 p.m. Eastern Time on Monday, November 21, 2011.

Docket Numbers: ER11-3522-003.

Applicants: Public Service Company of New Mexico.

Description: Public Service Company of New Mexico submits tariff filing per 35: PNM Queue Reform Compliance Filing to be effective 9/30/2011.

Filed Date: 10/31/2011.

Accession Number: 20111031-5404.

Comment Date: 5 p.m. Eastern Time on Monday, November 21, 2011.

Docket Numbers: ER11-4055-001; ER10-2977-001; ER11-3987-002; ER10-1290-002; ER10-3211-002; ER10-2814-001; ER10-3026-001

Applicants: Copper Mountain Solar 1, LLC, Mesquite Power, LLC, Mesquite Solar 1, LLC, San Diego Gas & Electric Company, Sempra Energy Trading LLC, Sempra Generation, Termoelectrica U.S., LLC.

Description: Notice of Change in Status of Sempra Generation, et al.

Filed Date: 10/31/2011.

Accession Number: 20111031-5252.

Comment Date: 5 p.m. Eastern Time on Monday, November 21, 2011.

Docket Numbers: ER11-4176-002.

Applicants: California Independent System Operator Corporation.

Description: California Independent System Operator Corporation submits tariff filing per 35: 2011-10-31 CAISO's SPTC Compliance Filing to be effective 10/31/2011.

Filed Date: 10/31/2011.

Accession Number: 20111031-5411.

Comment Date: 5 p.m. Eastern Time on Monday, November 21, 2011.

Docket Numbers: ER11-4199-000.

Applicants: Midwest Independent Transmission System Operator, Inc., ITC Midwest LLC.

Description: Midwest Independent Transmission System Operator, Inc. submits tariff filing per 35.19a(b): ITCM-City of Jackson Refund Report to be effective N/A.

Filed Date: 10/31/2011.

Accession Number: 20111031-5101.

Comment Date: 5 p.m. Eastern Time on Monday, November 21, 2011.

Docket Numbers: ER11-4286-001.

Applicants: Arizona Public Service Company.

Description: Arizona Public Service Company submits tariff filing per 35: Compliance filing to add title page for Service Agreement Nos. 308 and 51741 to be effective 7/8/2011.

Filed Date: 10/31/2011.

Accession Number: 20111031-5005.

Comment Date: 5 p.m. Eastern Time on Monday, November 21, 2011.

Docket Numbers: ER11-4678-001.

Applicants: Vasco Winds, LLC.

Description: Vasco Winds, LLC submits tariff filing per 35.17(b): Vasco Winds, LLC Amendment to MBR Application and Request for Expedited Action to be effective 11/1/2011.

Filed Date: 10/31/2011.

Accession Number: 20111031-5417.

Comment Date: 5 p.m. Eastern Time on Monday, November 14, 2011.

Docket Numbers: ER12-243-000.

Applicants: Pacific Gas and Electric Company.

Description: Pacific Gas and Electric Company submits tariff filing per 35.13(a)(2)(iii: DWR Letter Agreement for South Bay Removal to be effective 11/1/2011.

Filed Date: 10/31/2011.

Accession Number: 20111031-5006.

Comment Date: 5 p.m. Eastern Time on Monday, November 21, 2011.

Docket Numbers: ER12-244-000.

Applicants: Pacific Gas and Electric Company.

Description: Pacific Gas and Electric Company submits tariff filing per 35.13(a)(2)(iii: CCSF IA—35th Quarterly Filing of Facilities Agreements to be effective 9/30/2011.

Filed Date: 10/31/2011.

Accession Number: 20111031-5007.

Comment Date: 5 p.m. Eastern Time on Monday, November 21, 2011.

Docket Numbers: ER12-244-000.

Applicants: Pacific Gas and Electric Company.

Description: Pacific Gas and Electric Company submits tariff filing per: Errata to the CCSF IA 35th Quarterly Filing of Facilities Agreements to be effective N/A.

Filed Date: 10/31/2011.

Accession Number: 20111031-5011.

Comment Date: 5 p.m. Eastern Time on Monday, November 21, 2011.

Docket Numbers: ER12-245-000.

Applicants: Duke Energy Ohio, Inc., Duke Energy Kentucky, Inc., Duke Energy Indiana, Inc.

Description: Duke Energy Ohio, Inc. submits tariff filing per 35.15: Duke Ohio Cancellation Filing (Move to PJM) to be effective 1/1/2012.

Filed Date: 10/31/2011.

Accession Number: 20111031-5109.

Comment Date: 5 p.m. Eastern Time on Monday, November 21, 2011.

Docket Numbers: ER12-246-000.

Applicants: Entergy Arkansas, Inc.

Description: Entergy Arkansas, Inc. submits tariff filing per 35: MBRT Compliance Filing to be effective 4/20/2011.

Filed Date: 10/31/2011.

Accession Number: 20111031-5127.

Comment Date: 5 p.m. Eastern Time on Monday, November 21, 2011.

Docket Numbers: ER12-247-000.

Applicants: Entergy Gulf States Louisiana, LLC.

Description: Entergy Gulf States Louisiana, LLC submits tariff filing per 35: EGSL MBRT Compliance Filing to be effective 4/20/2011.

Filed Date: 10/31/2011.

Accession Number: 20111031-5135.

Comment Date: 5 p.m. Eastern Time on Monday, November 21, 2011.

Docket Numbers: ER12-248-000.

Applicants: Entergy Louisiana, LLC.

Description: Entergy Louisiana, LLC submits tariff filing per 35: ELL MBRT Compliance Filing to be effective 4/20/2011.

Filed Date: 10/31/2011.

Accession Number: 20111031-5139.

Comment Date: 5 p.m. Eastern Time on Monday, November 21, 2011.

Docket Numbers: ER12-249-000.

Applicants: Entergy Mississippi, Inc.

Description: Entergy Mississippi, Inc. submits tariff filing per 35: EMI MBRT Compliance Filing to be effective 4/20/2011.

Filed Date: 10/31/2011.

Accession Number: 20111031-5141.

Comment Date: 5 p.m. Eastern Time on Monday, November 21, 2011.

Docket Numbers: ER12-250-000.

Applicants: Entergy New Orleans, Inc.

Description: Entergy New Orleans, Inc. submits tariff filing per 35: ENO MBRT Compliance Filing to be effective 4/20/2011 under ER12-250 Filing Type: 80.

Filed Date: 10/31/2011.

Accession Number: 20111031-5144.

Comment Date: 5 p.m. Eastern Time on Monday, November 21, 2011.

Docket Numbers: ER12-251-000.

Applicants: Entergy Texas, Inc.

Description: Entergy Texas, Inc. submits tariff filing per 35: ETI MBRT Compliance Filing to be effective 4/20/2011.

Filed Date: 10/31/2011.

Accession Number: 20111031-5146.

Comment Date: 5 p.m. Eastern Time on Monday, November 21, 2011.

Docket Numbers: ER12-252-000.

Applicants: Upper Peninsula Power Company.

Description: Upper Peninsula Power Company submits tariff filing per 35.13(a)(2)(iii: Metering Agent Agreement between WPPI, Alger Delta Cooperative & UPPCO to be effective 1/1/2012.

Filed Date: 10/31/2011.

Accession Number: 20111031-5162.

Comment Date: 5 p.m. Eastern Time on Monday, November 21, 2011.

Docket Numbers: ER12-253-000.

Applicants: Entergy Nuclear Generation Company.

Description: Entergy Nuclear Generation Company submits tariff filing per 35: Entergy Nuclear Generation Co. MBRT Compliance Filing to be effective 4/20/2011.

Filed Date: 10/31/2011.

Accession Number: 20111031-5165.

Comment Date: 5 p.m. Eastern Time on Monday, November 21, 2011.

Docket Numbers: ER12-254-000.

Applicants: Entergy Nuclear Power Marketing, LLC.

Description: Entergy Nuclear Power Marketing, LLC submits tariff filing per 35: Entergy Nuclear Power Marketing MBRT Compliance Filing to be effective 4/20/2011.

Filed Date: 10/31/2011.

Accession Number: 20111031-5166.

Comment Date: 5 p.m. Eastern Time on Monday, November 21, 2011.

Docket Numbers: ER12-255-000.

Applicants: Entergy Power, LLC.

Description: Entergy Power, LLC submits tariff filing per 35: Entergy Power LLC MBRT Compliance Filing to be effective 4/20/2011.

Filed Date: 10/31/2011.

Accession Number: 20111031-5169.

Comment Date: 5 p.m. Eastern Time on Monday, November 21, 2011.

Docket Numbers: ER12-256-000.

Applicants: EWO Marketing, Inc.

Description: EWO Marketing, Inc. submits tariff filing per 35: EWO Marketing MBRT Compliance Filing to be effective 4/20/2011.

Filed Date: 10/31/2011.

Accession Number: 20111031-5170.

Comment Date: 5 p.m. Eastern Time on Monday, November 21, 2011.

Docket Numbers: ER12-257-000.

Applicants: Entergy Nuclear FitzPatrick, LLC.

Description: Entergy Nuclear FitzPatrick, LLC submits tariff filing per 35: Entergy Nuclear FitzPatrick MBRT Compliance Filing to be effective 4/20/2011.

Filed Date: 10/31/2011.

Accession Number: 20111031-5172.

Comment Date: 5 p.m. Eastern Time on Monday, November 21, 2011.

Docket Numbers: ER12-258-000.

Applicants: Entergy Nuclear Indian Point 2, LLC.

Description: Entergy Nuclear Indian Point 2, LLC submits tariff filing per 35: Entergy Nuclear Indian Point 2 MBRT Compliance Filing to be effective 4/20/2011.

Filed Date: 10/31/2011.

Accession Number: 20111031-5173.

Comment Date: 5 p.m. Eastern Time on Monday, November 21, 2011.

Docket Numbers: ER12-259-000.

Applicants: Entergy Nuclear Indian Point 3, LLC.

Description: Entergy Nuclear Indian Point 3, LLC submits tariff filing per 35: Entergy Nuclear Indian Point 3 MBRT Compliance Filing to be effective 4/20/2011.

Filed Date: 10/31/2011.

Accession Number: 20111031-5176.

Comment Date: 5 p.m. Eastern Time on Monday, November 21, 2011.

Docket Numbers: ER12-260-000.

Applicants: Energy Plus Holdings LLC.

Description: Energy Plus Holdings LLC submits tariff filing per 35.13(a)(2)(iii: Notice of Change in Status and Tariff Amendment to be effective 10/31/2011.

Filed Date: 10/31/2011.

Accession Number: 20111031-5177.

Comment Date: 5 p.m. Eastern Time on Monday, November 21, 2011.

Docket Numbers: ER12-261-000.

Applicants: Independence Energy LLC.

Description: Independence Energy LLC submits tariff filing per 35.13(a)(2)(iii: Notice of Change in Status and Tariff Amendment to be effective 10/31/2011.

Filed Date: 10/31/2011.

Accession Number: 20111031-5179.

Comment Date: 5 p.m. Eastern Time on Monday, November 21, 2011.

Docket Numbers: ER12-262-000.

Applicants: Llano Estacado Wind, LLC.

Description: Llano Estacado Wind, LLC submits tariff filing per 35: Llano Escatado Wind MBRT Compliance Filing to be effective 4/20/2011.

Filed Date: 10/31/2011.

Accession Number: 20111031-5180.

Comment Date: 5 p.m. Eastern Time on Monday, November 21, 2011.

Docket Numbers: ER12-263-000.

Applicants: Northern Iowa Windpower, LLC.

Description: Northern Iowa Windpower, LLC submits tariff filing per 35: Northern Iowa Windpower MBRT Compliance Filing to be effective 4/20/2011.

Filed Date: 10/31/2011.

Accession Number: 20111031-5182.

Comment Date: 5 p.m. Eastern Time on Monday, November 21, 2011.

Docket Numbers: ER12-264-000.

Applicants: Entergy Nuclear Palisades, LLC.

Description: Entergy Nuclear Palisades, LLC submits tariff filing per 35: Entergy Nuclear Palisades MBRT Compliance Filing to be effective 4/20/2011.

Filed Date: 10/31/2011.

Accession Number: 20111031-5183.

Comment Date: 5 p.m. Eastern Time on Monday, November 21, 2011.

Docket Numbers: ER12-265-000.

Applicants: Entergy Nuclear Vermont Yankee, LLC.

Description: Entergy Nuclear Vermont Yankee, LLC submits tariff filing per 35: Entergy Nuclear Vermont Yankee MBRT Compliance Filing to be effective 4/20/2011.

Filed Date: 10/31/2011.

Accession Number: 20111031-5187.

Comment Date: 5 p.m. Eastern Time on Monday, November 21, 2011.

Docket Numbers: ER12-266-000.

Applicants: PJM Interconnection, LLC.

Description: PJM Interconnection, LLC submits tariff filing per 35.13(a)(2)(iii: Queue No. W2-038, Original Service Agreement No. 3096 to be effective 9/29/2011.

Filed Date: 10/31/2011.

Accession Number: 20111031-5202.

Comment Date: 5 p.m. Eastern Time on Monday, November 21, 2011.

Docket Numbers: ER12-267-000.

Applicants: New England Power Pool Participants Committee.

Description: New England Power Pool Participants Committee submits tariff filing per 35.13(a)(2)(iii: Nov 2011 Membership Filing to be effective 10/1/2011.

Filed Date: 10/31/2011.

Accession Number: 20111031-5204.

Comment Date: 5 p.m. Eastern Time on Monday, November 21, 2011.

Docket Numbers: ER12-268-000.

Applicants: Black Hills/Colorado Electric Utility Company, LP.

Description: Black Hills/Colorado Electric Utility Company, LP submits tariff filing per 35.13(a)(2)(iii: OATT Revised Attachment K to be effective 11/1/2011.

Filed Date: 10/31/2011.

Accession Number: 20111031-5212.

Comment Date: 5 p.m. Eastern Time on Monday, November 21, 2011.

Docket Numbers: ER12-269-000.

Applicants: PJM Interconnection, LLC, Potomac-Appalachian Highline Transmission.

Description: PJM Interconnection, LLC submits tariff filing per 35.13(a)(2)(iii: PATH submits revisions to PJM Tariff Attachment H-19B to be effective 1/1/2012.

Filed Date: 10/31/2011.

Accession Number: 20111031-5231.

Comment Date: 5 p.m. Eastern Time on Monday, November 21, 2011.

Docket Numbers: ER12-270-000.

Applicants: Buchanan Generation, LLC.

Description: Buchanan Generation, LLC submits tariff filing per 35: Revised MBR Tariff to be effective 10/31/2011.

Filed Date: 10/31/2011.

Accession Number: 20111031-5233.

Comment Date: 5 p.m. Eastern Time on Monday, November 21, 2011.

Docket Numbers: ER12-271-000.

Applicants: PJM Interconnection, LLC.

Description: PJM Interconnection, LLC submits tariff filing per 35.13(a)(2)(iii: Revions to PJM's Tariff Attachment DD.11—DR Compliance Bill Timing Changes to be effective 12/30/2011.

Filed Date: 10/31/2011.

Accession Number: 20111031-5236.

Comment Date: 5 p.m. Eastern Time on Monday, November 21, 2011.

Docket Numbers: ER12-272-000.

Applicants: Green Valley Hydro, LLC.

Description: Green Valley Hydro, LLC submits tariff filing per 35: Revised MBR Tariff to be effective 10/31/2011.

Filed Date: 10/31/2011.

Accession Number: 20111031-5238.

Comment Date: 5 p.m. Eastern Time on Monday, November 21, 2011.

Docket Numbers: ER12-273-000.

Applicants: Allegheny Energy Supply Company, LLC.

Description: Allegheny Energy Supply Company, LLC submits tariff filing per 35: Revised MBR Tariff to be effective 10/31/2011.

Filed Date: 10/31/2011.

Accession Number: 20111031-5239.

Comment Date: 5 p.m. Eastern Time on Monday, November 21, 2011.

Docket Numbers: ER12-274-000.

Applicants: Midwest Independent Transmission System Operator, Inc.

Description: Midwest Independent Transmission System Operator, Inc. submits tariff filing per 35.13(a)(2)(iii: 10-31-11 DEO/DEK Withdrawal to be effective 1/1/2012.

Filed Date: 10/31/2011.

Accession Number: 20111031-5240.

Comment Date: 5 p.m. Eastern Time on Monday, November 21, 2011.

Docket Numbers: ER12-275-000.

Applicants: Dynegy Oakland, LLC.

Description: Dynegy Oakland, LLC submits tariff filing per 35.13(a)(2)(iii: Annual RMR Section 205 Filing and RMR Schedule F Informational Filing to be effective 1/1/2012.

Filed Date: 10/31/2011.

Accession Number: 20111031-5241.

Comment Date: 5 p.m. Eastern Time on Monday, November 21, 2011.

Docket Numbers: ER12-276-000.

Applicants: The Toledo Edison Company.

Description: The Toledo Edison Company submits tariff filing per 35: Revised MBR Tariff to be effective 10/31/2011.

Filed Date: 10/31/2011.

Accession Number: 20111031-5242.

Comment Date: 5 p.m. Eastern Time on Monday, November 21, 2011.

Docket Numbers: ER12-277-000.

Applicants: Southwest Power Pool, Inc.

Description: Southwest Power Pool, Inc. submits tariff filing per 35.13(a)(2)(iii: Revisions to Schedule 1-A—Tariff Administration Service to be effective 1/1/2012.

Filed Date: 10/31/2011.

Accession Number: 20111031-5243.

Comment Date: 5 p.m. Eastern Time on Monday, November 21, 2011.

Docket Numbers: ER12-278-000.

Applicants: California Independent System Operator Corporation.

Description: California Independent System Operator Corporation submits tariff filing per 35.13(a)(2)(iii: 2011-10-31 Natural Gas Pipeline Sharing Amendment to be effective 12/31/2011.

Filed Date: 10/31/2011.

Accession Number: 20111031-5244.

Comment Date: 5 p.m. Eastern Time on Monday, November 21, 2011.

Docket Numbers: ER12-279-000.

Applicants: Jersey Central Power & Light.

Description: Jersey Central Power & Light submits tariff filing per 35: Second Revised MBR Tariff to be effective 10/31/2011.

Filed Date: 10/31/2011.

Accession Number: 20111031-5245.

Comment Date: 5 p.m. Eastern Time on Monday, November 21, 2011.

Docket Numbers: ER12-280-000.

Applicants: Interstate Power and Light Company.

Description: Interstate Power and Light Company submits tariff filing per 35.15: Cancellation of IPL, TVA and PPW LBAOCA to be effective 1/1/2012.

Filed Date: 10/31/2011.

Accession Number: 20111031-5248.

Comment Date: 5 p.m. Eastern Time on Monday, November 21, 2011.

Docket Numbers: ER12-281-000.

Applicants: Northampton Generating Company, L.P.

Description: Northampton Generating Company, L.P. submits tariff filing per 35.12: Northampton Generating Co. MBR Tariff to be effective 12/30/2011.

Filed Date: 10/31/2011.

Accession Number: 20111031-5249.

Comment Date: 5 p.m. Eastern Time on Monday, November 21, 2011.

Docket Numbers: ER12-282-000.

Applicants: FirstEnergy Generation Corp.

Description: FirstEnergy Generation Corp. submits tariff filing per 35: Revised MBR Sales Tariff to be effective 10/31/2011.

Filed Date: 10/31/2011.

Accession Number: 20111031-5250.

Comment Date: 5 p.m. Eastern Time on Monday, November 21, 2011.

Docket Numbers: ER12-283-000.

Applicants: FirstEnergy Solutions Corp.

Description: FirstEnergy Solutions Corp. submits tariff filing per 35: Revised Limitations Tariff to be effective 10/31/2011.

Filed Date: 10/31/2011.

Accession Number: 20111031-5251.

Comment Date: 5 p.m. Eastern Time on Monday, November 21, 2011.

Docket Numbers: ER12-284-000.

Applicants: Monongahela Power Company.

Description: Monongahela Power Company submits tariff filing per 35: Revised MBR Tariff to be effective 11/1/2011.

Filed Date: 10/31/2011.

Accession Number: 20111031-5259.

Comment Date: 5 p.m. Eastern Time on Monday, November 21, 2011.

Docket Numbers: ER12-285-000.

Applicants: Metropolitan Edison Company.

Description: Metropolitan Edison Company submits tariff filing per 35: Revised MBR Tariff to be effective 10/31/2011.

Filed Date: 10/31/2011.

Accession Number: 20111031-5275.

Comment Date: 5 p.m. Eastern Time on Monday, November 21, 2011.

Docket Numbers: ER12-286-000.

Applicants: Ohio Edison Company.

Description: Ohio Edison Company submits tariff filing per 35: Revised MBR Tariff to be effective 10/31/2011.

Filed Date: 10/31/2011.

Accession Number: 20111031-5281.

Comment Date: 5 p.m. Eastern Time on Monday, November 21, 2011.

Docket Numbers: ER12-287-000.

Applicants: Pennsylvania Power Company.

Description: Pennsylvania Power Company submits tariff filing per 35: Revised MBR Power Sales Tariff to be effective 11/1/2011.

Filed Date: 10/31/2011.

Accession Number: 20111031-5283.

Comment Date: 5 p.m. Eastern Time on Monday, November 21, 2011.

Docket Numbers: ER12-288-000.

Applicants: The Cleveland Electric Illuminating Company.

Description: The Cleveland Electric Illuminating Company submits tariff filing per 35: Revised MBR Power Sales Tariff to be effective 10/31/2011.

Filed Date: 10/31/2011.

Accession Number: 20111031-5286.

Comment Date: 5 p.m. Eastern Time on Monday, November 21, 2011.

Docket Numbers: ER12-289-000.

Applicants: New York Independent System Operator, Inc., Niagara Mohawk Power Corporation.

Description: New York Independent System Operator, Inc. submits tariff filing per 35.13(a)(2)(iii: Tri-Lakes Service Agreement between NiMo, NYPA, Lake Placid, and Tupper Lake to be effective 10/17/2011.

Filed Date: 10/31/2011.

Accession Number: 20111031-5319.

Comment Date: 5 p.m. Eastern Time on Monday, November 21, 2011.

Docket Numbers: ER12-290-000.

Applicants: Midwest Independent Transmission System Operator, Inc.

Description: Midwest Independent Transmission System Operator, Inc. submits tariff filing per 35.13(a)(2)(iii: Attachment L-Section 7 re: MVP to be effective 1/1/2012.

Filed Date: 10/31/2011.

Accession Number: 20111031-5360.

Comment Date: 5 p.m. Eastern Time on Monday, November 21, 2011.

Docket Numbers: ER12-291-000.

Applicants: Florida Power & Light Company.

Description: Florida Power & Light Company submits tariff filing per 35: FPL Waiver Order Compliance Filing to be effective 4/20/2011.

Filed Date: 10/31/2011.

Accession Number: 20111031-5362.

Comment Date: 5 p.m. Eastern Time on Monday, November 21, 2011.

Docket Numbers: ER12-292-000.

Applicants: NextEra Energy Duane Arnold, LLC.

Description: NextEra Energy Duane Arnold, LLC submits tariff filing per 35: NextEra Energy Duane Arnold, LLC Waiver Compliance Filing to be effective 4/20/2011.

Filed Date: 10/31/2011.

Accession Number: 20111031-5372.

Comment Date: 5 p.m. Eastern Time on Monday, November 21, 2011.

Docket Numbers: ER12-293-000.

Applicants: NextEra Energy Point Beach, LLC.

Description: NextEra Energy Point Beach, LLC submits tariff filing per 35: NEE Point Beach Waiver order Compliance to be effective 4/20/2011.

Filed Date: 10/31/2011.

Accession Number: 20111031-5375.

Comment Date: 5 p.m. Eastern Time on Monday, November 21, 2011.

Docket Numbers: ER12-294-000.

Applicants: NextEra Energy Seabrook, LLC.

Description: NextEra Energy Seabrook, LLC submits tariff filing per 35: NEE Seabrook, LLC Waiver Order Compliance Filing to be effective 4/20/2011.

Filed Date: 10/31/2011.

Accession Number: 20111031-5379.

Comment Date: 5 p.m. Eastern Time on Monday, November 21, 2011.

Docket Numbers: ER12-295-000.

Applicants: NaturEner Rim Rock Wind Energy, LLC.

Description: NaturEner Rim Rock Wind Energy, LLC submits tariff filing per 35.12: Application for Market-Based Rate Authority and Request for Related Waivers to be effective 12/15/2011.

Filed Date: 10/31/2011.

Accession Number: 20111031-5409.

Comment Date: 5 p.m. Eastern Time on Monday, November 21, 2011.

Docket Numbers: ER12-296-000.

Applicants: Public Service Electric and Gas Company, PJM Interconnection, LLC.

Description: Public Service Electric and Gas Company submits tariff filing per 35.13(a)(2)(iii: PSEG submits revisions to PJM's Tariff Attach H-10A to include the NGR Project to be effective 1/1/2012.

Filed Date: 10/31/2011.

Accession Number: 20111031-5414.

Comment Date: 5 p.m. Eastern Time on Monday, November 21, 2011.

Docket Numbers: ER12-297-000.

Applicants: Midwest Independent Transmission System Operator, Inc.

Description: Midwest Independent Transmission System Operator, Inc. submits tariff filing per 35.13(a)(2)(iii: 10-31-11 Attachment O to be effective 1/1/2012.

Filed Date: 10/31/2011.

Accession Number: 20111031-5418.

Comment Date: 5 p.m. Eastern Time on Monday, November 21, 2011.

Docket Numbers: ER12-298-000.

Applicants: Westar Energy, Inc.

Description: Westar Energy, Inc. submits tariff filing per 35.13(a)(2)(iii: Caney River Wind Project, LLC, Balancing Area Services Agreement to be effective 10/1/2011.

Filed Date: 10/31/2011.

Accession Number: 20111031-5419.

Comment Date: 5 p.m. Eastern Time on Monday, November 21, 2011.

Take notice that the Commission received the following electric securities filings:

Docket Numbers: ES12-5-000.

Applicants: Mississippi Power Company.

Description: Application of Mississippi Power Company.

Filed Date: 10/31/2011.

Accession Number: 20111031-5413.

Comment Date: 5 p.m. Eastern Time on Monday, November 21, 2011.

Take notice that the Commission received the following land acquisition reports:

Docket Numbers: LA11-3-000.

Applicants: BP Energy Company, BP West Coast Products LLC, Cedar Creek Wind Energy, LLC, Cedar Creek II, LLC, Flat Ridge Wind Energy, LLC, Fowler Ridge II Wind Farm LLC, Fowler Ridge III Wind Farm LLC, Fowler Ridge Wind Farm LLC, Goshen Phase II, LLC, Long Island Solar Farm LLC, Rolling Thunder I Power Partners, LLC, Watson Cogeneration Company, Whiting Clean Energy, Inc.

Description: Report of BP Energy Company, et al.

Filed Date: 10/31/2011.

Accession Number: 20111031-5117.

Comment Date: 5 p.m. Eastern Time on Monday, November 21, 2011.

Docket Numbers: LA11-3-000.

Applicants: Astoria Generating Company, L.P.

Description: Quarterly Land Acquisition Report of Astoria Generating Company, L.P.

Filed Date: 10/31/2011.

Accession Number: 20111031-5124.

Comment Date: 5 p.m. Eastern Time on Monday, November 21, 2011.

Docket Numbers: LA11-3-000.

Applicants: NRG Energy, Inc., Aqua Caliente Solar, LLC, Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, Cottonwood Energy LP, Devon Power LLC, Dunkirk Power LLC, El Segundo Energy Center LLC, El Segundo Power, LLC, El Segundo Power II LLC, GenConn Devon LLC, GenConn Energy LLC, GenConn Middletown LLC, Green Mountain Energy Company, Huntley Power LLC, Indian River Power LLC, Keystone Power LLC, Long Beach Generation LLC, Long Beach Peakers LLC, Louisiana Generating LLC, Middletown Power LLC, Montville Power LLC, NEO Freehold-Gen LLC, Norwalk Power LLC, NRG Energy Center Dover LLC, NRG Energy Center Paxton LLC, NRG New Jersey Energy Sales LLC, NRG Power Marketing LLC, NRG Rockford LLC, NRG Rockland II LLC, NRG Solar Blythe LLC, NRG Sterlington Power LLC, Oswego Harbor Power LLC, Reliant Energy Northeast LLC, Saguaro Power Company, A Limited Partnership, Sand Drag LLC, Somerset Power LLC, Sun City Project LLC, Vienna Power LLC.

Description: Order 697-C Compliance Filing Regarding Site Control of NRG Power Marketing LLC, et al.

Filed Date: 10/31/2011.

Accession Number: 20111031-5193.

Comment Date: 5 p.m. Eastern Time on Monday, November 21, 2011.

Docket Numbers: LA11-3-000.

Applicants: Macho Springs Power I, LLC.

Description: Land Acquisition Report for Q3 2011 of Macho Springs Power I, LLC.

Filed Date: 10/31/2011.

Accession Number: 20111031-5223.

Comment Date: 5 p.m. Eastern Time on Monday, November 21, 2011.

Docket Numbers: LA11-3-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, LLC, Tenaska Alabama Partners, L.P., Tenaska Gateway Partners Ltd., Tenaska Georgia Partners, L.P., Tenaska Power Services Co., Tenaska Virginia Partners, L.P., Tenaska Washington Partners, L.P., Texas Electric Marketing, LLC, TPF Generation Holdings, LLC, Wolf Hills Energy, LLC.

Description: Quarterly Land Aquisition Report of Alabama Electric Marketing, LLC, et al.

Filed Date: 10/31/2011.

Accession Number: 20111031-5340.

Comment Date: 5 p.m. Eastern Time on Monday, November 21, 2011.

Docket Numbers: LA11-3-000.

Applicants: Auburndale Peaker Energy Center, L.L.C., Bethpage Energy Center 3, LLC, Broad River Energy LLC, Calpine Bethlehem, LLC, Calpine Construction Finance Company, L.P., Calpine Energy Services, L.P., Calpine Gilroy Cogen, L.P., Calpine Greenleaf, Inc., Calpine Mid-Atlantic Generation, LLC, Calpine Mid-Atlantic Marketing, LLC, Calpine Mid Merit, LLC, Calpine New Jersey Generation, LLC, Calpine Newark, LLC, Calpine Oneta Power, LLC, Calpine Philadelphia Inc., Calpine Power America—CA, LLC, Calpine Power America—OR, LLC, Calpine Vineland Solar, LLC, Carville Energy LLC, CES Marketing V, L.P., CES Marketing IX, LLC, CES Marketing X, LLC, Columbia Energy LLC, CPN Bethpage 3rd Turbine, Inc., Creed Energy Center, LLC, Decatur Energy Center, LLC, Delta Energy Center, LLC, Geysers Power Company, LLC, Gilroy Energy Center, LLC, Goose Haven Energy Center, LLC, Hermiston Power, LLC, KIAC Partners, Los Esteros Critical Energy Facility, LLC, Los Medanos Energy Center, LLC, Mankato Energy Center, LLC, Metcalf Energy Center, LLC, Mobile Energy, LLC, Morgan Energy Center, LLC, Nissequogue Cogen Partners, Otay Mesa Energy Center, LLC, Pastoria Energy Center, LLC, PCF2, LLC, Pine Bluff Energy, LLC, Power Contract Financing, L.L.C., Riverside Energy Center, LLC, RockGen Energy, LLC, Santa Rosa Energy Center, LLC, South Point Energy Center, LLC, TBG Cogen Partners, and Zion Energy LLC.

Description: Quarterly Land Acquisition Report of Auburndale Peaker Energy Center, LLC, et al.

Filed Date: 10/31/2011.

Accession Number: 20111031-5393.

Comment Date: 5 p.m. Eastern Time on Monday, November 21, 2011.

Docket Numbers: LA11-3-000.

Applicants: Ashtabula Wind, LLC, Ashtabula Wind II, LLC, Ashtabula Wind III, LLC, Backbone Mountain Windpower LLC, Badger Windpower, LLC, Baldwin Wind, LLC, Bayswater Peaking Facility, LLC, Blythe Energy, LLC, Butler Ridge Wind Energy Center, LLC, Calhoun Power Company I, LLC, Crystal Lake Wind, LLC, Crystal Lake Wind II, LLC, Crystal Lake Wind III, LLC, Day County Wind, LLC, Diablo Winds, LLC, Doswell Limited Partnership, Elk City Wind, LLC, Elk City II Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL, Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, FPLE Rhode Island State Energy, L.P., Garden Wind, LLC, Gray County Wind Energy, LLC, Hatch Solar Energy Center I, LLC, Hawkeye Power Partners, LLC, High Majestic Wind Energy Center, LLC, High Winds, LLC, Jamaica Bay Peaking Facility, LLC, Lake Benton Power Partners II, LLC, Langdon Wind, LLC, Logan Wind Energy LLC, Meyersdale Windpower LLC, Mill Run Windpower, LLC, Minco Wind, LLC, Minco Wind II, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, Northern Colorado Wind Energy, LLC, Osceola Windpower, LLC, Osceola Windpower II, LLC, Paradise Solar Urban Renewal, LLC, Peetz Table Wind Energy, LLC, Pennsylvania Windfarms, Inc., Red Mesa Wind, LLC, Sky River LLC, Somerset Windpower, LLC, Story Wind, LLC, Vasco Winds, LLC, Victory Garden Phase IV, LLC, Waymart Wind Farm, L.P., Wessington Wind Energy Center, LLC, White Oak Energy, LLC, Wilton Wind II, LLC, Windpower Partners 1993, L.P.

Description: NextEra Energy Companies submit Third Quarter 2011 Site Control Quarterly Filing.

Filed Date: 10/31/2011.

Accession Number: 20111031-5423.

Comment Date: 5 p.m. Eastern Time on Monday, November 21, 2011.

Docket Numbers: LA11-3-000.

Applicants: East Coast Power Linden Holding, LLC, Cogen Technologies Linden Venture, L.P., Fox Energy Company, LLC, Birchwood Power Partners, L.P., Shady Hills Power Company, LLC, EFS Parlin Holdings, LLC, Inland Empire Energy Center, LLC

Description: GE Companies submit Third Quarter 2011 Site Control Quarterly Filing under LA11-3.

Filed Date: 10/31/2011.

Accession Number: 20111031-5425.

Comment Date: 5 p.m. Eastern Time on Monday, November 21, 2011.

Docket Numbers: LA11-3-000.

Applicants: Black Hills Power, Inc., Black Hills/Colorado Electric Utility Company, LP, Black Hills Wyoming, LLC, Cheyenne Light, Fuel and Power Company, Enserco Energy, Inc.

Description: Black Hills Utilities submit Third Quarter 2011 Site Control Quarterly Filing.

Filed Date: 10/31/2011.

Accession Number: 20111031-5427.

Comment Date: 5 p.m. Eastern Time on Monday, November 21, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2011.
Nathaniel J. Davis, Sr.,
Deputy Secretary.

[FR Doc. 2011-28863 Filed 11-7-11; 8:45 am]

BILLING CODE 6717-01-P